DEPARTMENT OF LABOR

Employment and Training Administration

[TA-W-91,152; TA-W-91,152A]

Petrochoice, LLC, Chisholm, Minnesota, Petrochoice, LLC, Superior, Wisconsin; Amended Certification Regarding Eligibility To Apply for Worker Adjustment Assistance

In accordance with Section 223 of the Trade Act of 1974, as amended (“Act”), 19 U.S.C. 2273, the Department of Labor issued a Certification of Eligibility to Apply for Worker Adjustment Assistance on April 8, 2016, applicable to workers of PetroChoice, LLC, Chisholm, Minnesota. The Department's notice of determination was published in the Federal Register on January 11, 2016 (81 FR 1231).

At the request of the state workforce office, the Department reviewed the certification for workers of the subject firm. The workers are engaged in supplying lubrication and technician services. Workers are not separately identifiable by the service supplied.

The company reports that PetroChoice, LLC, Superior, Wisconsin (TA-W-91,152A) worked in conjunction with the workers of PetroChoice, LLC, Chisholm, Minnesota (TA-W-91,152) and were similarly affected.

The amended notice applicable to TA-W-91,152 is hereby issued as follows:

All workers of PetroChoice, LLC, Chisholm, Minnesota (TA-W-91,152), and PetroChoice, LLC, Superior, Wisconsin (TA-W-91,152A), who became totally or partially separated from employment on or after November 17, 2014 through April 8, 2018, and all workers in the group threatened with total or partial separation from employment on date of certification through two years from the date of certification, are eligible to apply for adjustment assistance under Chapter 2 of Title II of the Trade Act of 1974, as amended.

Signed in Washington, DC, this 15th day of June, 2016.
Jessica R. Webster,
Certifying Officer, Office of Trade Adjustment Assistance.

[FR Doc. 2016-16842 Filed 7-15-16; 8:45 am]

BILLING CODE 4510-FN-P